DEPARTMENT OF THE INTERIOR

Bureau of Land Management

[LLCA932000.L1440000.ET0000 16X; CACA 35558]

Notice of Proposed Withdrawal Extension, Red Rock Canyon State Park; California

AGENCY: Bureau of Land Management, Department of the Interior.

ACTION: Notice.

SUMMARY: The Assistant Secretary for Land and Minerals Management proposes to extend the duration of Public Land Order (PLO) No. 7260 for an additional 20-year term. PLO No. 7260 withdrew 8,896 acres of public lands from settlement, sale, location, or entry under the general land laws, including the United States mining and mineral leasing laws, except for conveyances under Section 701 of the California Desert Protection Act of 1994, to protect the Red Rock Canyon State Park resources in Kern County, California, until the lands can be conveyed to the State of California. This notice gives the public an opportunity to comment on the proposed action. This notice also announces the date, time, and location of the public meeting to be held in conjunction with the proposed extension.

DATES: Comments must be received by June 14, 2016. The Bureau of Land Management (BLM) will hold a public meeting in connection with the proposed withdrawal extension on April 27, 2016.

ADDRESSES: Comments and meeting requests should be sent to the California State Director, Bureau of Land Management (BLM), 2800 Cottage Way, Suite W-1623, Sacramento, California 95825.

FOR FURTHER INFORMATION CONTACT: Deanne Kidd, BLM California State Office, at 916-978-4337, or email dykidd@blm.gov. Persons who use a telecommunications device for the deaf (TDD) may call the Federal Information Relay Service (FIRS) at 1-800-877-8339 to contact the above individual. The FIRS is available 24 hours a day, 7 days a week, to leave a message or question. You will receive a reply during normal business hours.

SUPPLEMENTARY INFORMATION: The BLM has filed an application to extend the withdrawal created by PLO No. 7260 (62 FR 26324 (1997)) for the remaining 6,072 acres of public lands, for an additional 20-year term. PLO No. 7260 will expire on May 5, 2017, unless extended. The purpose of the withdrawal extension is to protect the park values of this designated area until the lands can be conveyed to the State of California pursuant to the California Desert Protection Act of 1994 (108 Stat. 4471, sec. 701):

Mount Diablo Meridian, California

T. 29 S., R. 37 E.,

Sec. 25, E½ and SW¼.

T. 29 S., R. 38 E.,

Sec. 4, lots 1 thru 4, SE¼NE¼, E½SW¼NE¼, E½SE¼NW¼, SW¼SE¼NW¼, W½NE¼SW¼, SE¼NE¼SW¼, SE¼NW¼SW¼, E½SW¼SW¼, SW¼SW¼SW¼, W½SE¼SW¼, SW¼NE¼SE¼, SE¼NW¼SE¼, NE¼SW¼SE¼, and NW¼SE¼SE¼;

Sec. 5, lots 1 and 2, SW¼NE¼, S½NW¼, N½NE¼SW¼, SW¼NE¼SW¼, NW¼SW¼, N½SW¼SW¼, N½NW¼SE¼, N½NW¼SE¼, E½SE¼NW¼SE¼, E½NE¼SW¼SE¼, E½SE¼SW¼SE¼, and SE¼SE¼;

Sec. 6, lots 1 and 7, S½NE¼, E½SW¼, N½SE¼, SW¼SE¼, N½SE¼SE¼, and SW¼SE¼SE¼;

Sec. 7, lots 1 thru 4, NW¼NE¼NE¼, NW¼NE¼, W½SW¼NE¼, E½NW¼, E½SW¼, and NW¼NW¼SE¼;

Sec. 8, E½NE¼, E½NE¼NW¼NE¼, SW¼NE¼NW¼NE¼, S½NW¼NW¼NE¼, S½NW¼NE¼, SW¼NE¼, SE¼NE¼NE¼NW¼, E½SE¼NE¼NW¼, NE¼NE¼SE¼NW¼, S½NE¼SE¼NW¼, SE¼SE¼NW¼, E½NE¼SW¼, SE¼SW¼SW¼, SE¼SW¼, and SE¼;

Sec. 9, NW¼NE¼NW¼, NW¼NW¼, N½SW¼NW¼, SW¼SW¼NW¼, and NW¼NW¼SW¼;

Sec. 17, N½NE¼, N½SW¼NE¼, SW¼SW¼NE¼, N½SE¼NE¼, E½NW¼, E½NW¼NW¼, E½SW¼NW¼, E½SW¼, E½NW¼SW¼, E½SW¼SW¼, W½NW¼SE¼, and SW¼SE¼;

Sec. 18, lots 1 and 2, and E½NW¼;

Sec. 19, E½SW¼ and SE¼;

Sec. 20, E½, E½NW¼, E½NW¼NW¼, NE¼SW¼NW¼, and SW¼;

Sec. 21, N½, SW¼, and N½SE¼;

Sec. 28, W½NW¼NW¼, SW¼NW¼, E½NW¼SW¼, SW¼SW¼, and W½SE¼SW¼;

Sec. 29, E½NE¼, NW¼NE¼, N½SW¼NE¼, SE¼SW¼NE¼, and NW¼;

Sec. 30, lots 1, 4, and 6, N½NE¼, E½SW¼NE¼, E½NW¼SW¼NE¼, E½SW¼SW¼NE¼, W½SE¼NE¼, NE¼NW¼, S½NE¼SW¼, and N½SE¼SW¼;

Sec. 33, N½, SW¼, N½SE¼, SW¼SE¼, and that portion of land in SE¼SE¼ lying north of the northern right-of-way boundary of the highway known as Redrock Randsburg Road.

T. 30 S., R. 38 E.,

Sec. 4 that portion of lot 2 of NE¼ lying north of the northern right-of-way boundary of the highway known as Redrock Randsburg Road;

Sec. 6, lots 1 and 2 of NW¼.

The areas described aggregate 6,072 acres of public lands in Kern County.

The use of a right-of-way, interagency agreement, or cooperative agreement would not segregate the lands from further mining claim filings or from other conflicting uses.

There are no suitable alternative sites as the California Desert Protection Act of 1994 mandates that the area be conveyed to the State of California.

No additional water rights will be required to fulfill the purpose of the requested withdrawal extension.

For a period until June 14, 2016, all persons who wish to submit comments, suggestions, or objections in connection with the proposed withdrawal extension may present their views in writing to the California State Director of the BLM at the address in the ADDRESSES section. Comments, including names and street addresses of respondents, will be available for public review at the BLM California State Office, during regular business hours, 8:30 a.m. to 4:30 p.m. Monday through Friday, except Federal holidays.

Before including your address, phone number, email address, or other personal identifying information in your comment, you should be aware that your entire comment—including your personal identifying information—may be made publicly available at any time. While you can ask the BLM in your comment to withhold your personal identifying information from public view, the BLM cannot guarantee that it will be able to do so.

Notice is hereby given that a public meeting in connection with the proposed withdrawal extension will be held at the Kerr McGee Center, 100 W. California Avenue, Ridgecrest, California, 93555 on April 28, 2016 from 6 to 8 p.m. The BLM will publish a notice of the time and place in at least one newspaper of general circulation no less than 30 days before the scheduled date of the meeting.

The application will be processed in accordance with the regulations set forth in 43 CFR 2310.4.

Thomas Pogacnik,
California Deputy State Director, Division of Natural Resources.

[FR Doc. 2016-05911 Filed 3-15-16; 8:45 am]

BILLING CODE 4310-40-P